POSTAL RATE COMMISSION

Tour of Printing and Distribution Facilities

AGENCY: Postal Rate Commission.

ACTION: Notice of commission visit.

SUMMARY: In early May, Postal Rate Commissioners and staff will tour facilities of CTC Corp. and Quebecor Inc. (both in Chicago, IL) and the United Parcel Service (UPS) international air hub (in Louisville, KY). The Quebecor visit will include the logistics center, consolidation facility, and bindery.

DATES: The visit is scheduled as follows:

May 7 (p.m.): CTC Corp.

May 8 (a.m.): Quebecor Inc.

May 8 (p.m.): United Parcel Service

FOR FURTHER INFORMATION CONTACT: Stephen L. Sharfman, General Counsel, Postal Rate Commission, Suite 300, 1333 H Street, NW., Washington, DC 20268-0001, 202-789-6820.

Dated: May 1, 2001.
Garry J. Sikora,
Acting Secretary.

[FR Doc. 01-11271 Filed 5-3-01; 8:45 am]

BILLING CODE 7710-FW-M